DEPARTMENT OF THE INTERIOR

National Park Service

[N6455; NPS-WASO-NAGPRA-NPS0040877; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of objects of cultural patrimony and that have a cultural affiliation with the Indian Tribes or Native Hawaiian organizations in this notice.

DATES: Repatriation of the cultural items in this notice may occur on or after September 22, 2025.

ADDRESSES: Send additional, written requests for repatriation of the cultural items in this notice to Elise-Alexandria Green, Sonoma State University, 1801 East Cotati Avenue, Rohnert Park, CA 94928, email greeneli@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 15 cultural items have been requested for repatriation.

One lot of objects of cultural patrimony were taken from CA-SON-1325 near Timber Cove, Sonoma County, CA. The cultural items are flaked stone tools and debitage which were acquired through an archeological investigation done in 1981 by the Anthropological Studies Center for California Department of Forestry Survey, Gualala Ranch #2. The cultural items have been housed at Sonoma State University since 1981 under Accession Number 81-01.

Two lots of objects of cultural patrimony were taken from CA-SON-1335/H near Guerneville, Sonoma County, CA. The cultural items are flaked stone tools and debitage; and historic-period material, which were acquired through an archeological investigation done in 1981 by the Anthropological Studies Center for the Cronkite/Klauenburch Survey. The cultural items have been housed at Sonoma State University since 1981 under Accession Number 81-01.

Four lots of objects of cultural patrimony were taken from CA-SON-1829 near Sea Ranch, Sonoma County, CA. The cultural items are flaked stone tools and debitage which were acquired through an archeological investigation done in 2017 by the Anthropological Studies Center for the California Department of Forestry and Fire Protection. The cultural items have been housed at Sonoma State University since 2017 under Accession Number 2017-53.

Seven lots of objects of cultural patrimony were taken from CA-SON-1827 near Cloverdale, Sonoma County, CA. The cultural items are flaked stone tools and debitage. The cultural items have been housed at Sonoma State University since 1990 under Accession Number 90-01.

One lot of objects of cultural patrimony were taken from CA-SON-1893 near Cloverdale, Sonoma County, CA. The cultural items are debitage which was acquired through an archeological investigation done in 2017 by the Anthropological Studies Center for the California Department of Forestry and Fire Protection. The cultural items have been housed at Sonoma State University since 2017 under Accession Number 2017-54.

Based on records concerning the objects of cultural patrimony and the institution in which they are housed, there is no evidence of the cultural items being treated with hazardous substances.

Determinations

The Sonoma State University has determined that:

• The 15 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: August 13, 2025.
Melanie O'Brien,
Manager, National NAGPRA Program.

[FR Doc. 2025-16114 Filed 8-21-25; 8:45 am]

BILLING CODE 4312-52-P